DEPARTMENT OF ENERGY

Federal Energy Regulatory Commission

18 CFR Parts 2 and 33

[Docket No. RM05-34-000]

Transactions Subject to FPA Section 203; Correction

AGENCY: Federal Energy Regulatory Commission (DOE).

ACTION: Notice of proposed rulemaking; correction.

SUMMARY: The Federal Energy Regulatory Commission published in the Federal Register of October 7, 2005, a document concerning revisions to 18 CFR parts 2 and 33 to implement amended section 203 of the Federal Power Act. Footnote 4 inadvertently references February 3, 2006 instead of February 8, 2006. This document corrects that error.

FOR FURTHER INFORMATION CONTACT: Sarah McWane (Legal Information), Office of the General Counsel, Federal Energy Regulatory Commission, 888 First Street, NE., Washington, DC 20426, (202) 502-8372.

SUPPLEMENTARY INFORMATION: The Federal Energy Regulatory Commission published in the Federal Register of October 7, 2005 (70 FR 58636), a document concerning revisions to 18 CFR parts 2 and 33 to implement amended section 203 of the Federal Power Act. Footnote 4 inadvertently references February 3, 2006 instead of February 8, 2006. This document corrects that error.

Correction

In proposed rule FR Doc. 05-20311, beginning on page 58636 in the issue of October 7, 2005, make the following correction. On page 58636, in the second column, paragraph 1, footnote 4 is revised to read: “As noted below, EPAct 2005's amendments to FPA section 203 will not take effect until February 8, 2006. We will generally refer to EPAct 2005's amended section 203 of the FPA as ‘amended section 203.’ All other references to FPA section 203 are as it currently exists.”

Dated: October 14, 2005.
Magalie R. Salas,
Secretary.

[FR Doc. 05-20895 Filed 10-18-05; 8:45 am]

BILLING CODE 6717-01-P